DEPARTMENT OF COMMERCE

Foreign-Trade Zones Board

[B-70-2017]

Foreign-Trade Zone 15—Kansas City, Missouri Application for Expansion Under Alternative Site Framework

An application has been submitted to the Foreign-Trade Zones (FTZ) Board (the Board) by the Greater Kansas City Foreign-Trade Zone, Inc., grantee of FTZ 15, requesting authority to expand its zone under the alternative site framework (ASF) adopted by the Board (15 CFR Sec. 400.2(c)). The application was submitted pursuant to the Foreign-Trade Zones Act, as amended (19 U.S.C. 81a-81u) and the regulations of the Board (15 CFR part 400). It was formally docketed on November 8, 2017.

FTZ 15 was established by the Board on March 13, 1973 (Board Order 93, 38 FR 8622, April 4, 1973) and was reorganized under the ASF on May 16, 2014 (Board Order 1938, 79 FR 30079, May 27, 2014). The zone has a service area that includes Andrew, Bates, Buchanan, Caldwell, Carroll, Cass, Chariton, Clay, Clinton, Cooper, Daviess, DeKalb, Henry, Howard, Jackson, Johnson, Lafayette, Livingston, Pettis, Platte, Ray and Saline Counties, Missouri. The zone currently consists of the following sites: Site 1 (8.46 acres total, sunset 5/31/2019)—within Executive Park, located at 1650 North Topping and 1226 Topping Drive, Kansas City; Site 2 (64.3 acres, sunset 5/31/2019)—surface/underground warehouse complex, 8300 NW Underground Drive and 3600 Great Midwest Drive, Kansas City; Site 3 (9,667 acres)—within the Kansas City International Airport facility, 601 Brasilia Avenue, Kansas City; Site 4 (416 acres, sunset 5/31/2019)—Carefree Industrial Park, 1600 North Missouri Highway 291, Sugar Creek; Site 7 (1,567 acres, sunset 5/31/2019)—Richards-Gebaur Memorial Airport/Industrial Park, 1540 Maxwell, Kansas City; Site 8 (26 acres, sunset 5/31/2019)—Chillicothe Industrial Park, located at Ryan Road and Brunswick, Chillicothe; Site 11 (22 acres, sunset 5/31/2020)—Omni Apparel Inc., 13500 15th Street, Grandview; Site 13 (36.57 acres, sunset 5/31/2020)—Pure Fishing, 7501 NW 106th Terrace, Kansas City; Site 14 (68 acres, sunset 5/31/2019)—within the 330-acre Air World Center Business Park, located at Interstate 29 and 112th Street, Kansas City; Site 16 (155 acres, sunset 5/31/2019)—Congress Corporate Center Industrial Park, located at the northwest corner of 112th Street and North Congress, Kansas City; Site 17 (27 acres total, sunset 5/31/2019)—within the Grandview Industrial Park, located at 13700 South US 71 Highway and at 5610 East 139th Street, Grandview; Site 19 (178.2 acres, sunset 2/28/2018)—Grainger International, Inc., 11200 E. 210 Highway, Kansas City; Site 20 (34.6878 acres total, sunset 2/28/2018)—Grainger International, Inc., 150/201/501 South Geospace Drive and 2999/3011/3201 East Geospace Drive, Independence; and, Site 22 (62.7 acres, sunset 12/31/2019)—Outdoor Custom Sportswear, LLC, 13205 Arrington Road, Grandview.

The applicant is now requesting authority to modify the existing boundaries of Site 3 at the Kansas City International Airport facility by removing a 143.90-acre parcel and adding twelve new parcels totaling 1,273.90 acres. Modified Site 3 would consist of 10,797 acres. The proposed expanded site is within the Kansas City Customs and Border Protection port of entry.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is January 16, 2018. Rebuttal comments in response to material submitted during the foregoing period may be submitted during the subsequent 15-day period to January 29, 2018.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: November 8, 2017.
Andrew McGilvray,
Executive Secretary.

[FR Doc. 2017-24646 Filed 11-14-17; 8:45 am]

BILLING CODE 3510-DS-P